DEPARTMENT OF THE INTERIOR

Bureau of Land Management

[CA-010-1220-00]

Meeting of the Central California Resource Advisory Council

AGENCY: Bureau of Land Management, Department of the Interior.

ACTION: Meeting of the Central California Resource Advisory Council.

SUMMARY: Pursuant to the authorities in the Federal Advisory Committee Act (public law 92-463) and the Federal Land Policy and Management Act of 1976 (sec. 309), the Bureau of Land Management Resource Advisory Council for Central California will meet in Bishop.

DATES: Friday and Saturday, August 11-12, 2000.

ADDRESSES: Patio Room, Tri-County Fairgrounds, Sierra Street and Fair Drive, Bishop, California.

SUPPLEMENTARY INFORMATION: The 12 member Central California Resource Advisory Council is appointed by the Secretary of the Interior to advise the Bureau of Land Management on public land issues. On Friday, the Council will hear reports on the General Accounting Office investigation of the BLM. Land exchange program and local grazing issues in the Bishop area. Saturday's session will be taken up with a discussion of off-highway vehicle issues, with a presentation of a national OHV strategy by the BLM. There will be a public comment period at 10:45 a.m. Saturday on OHV issues only. There will be other opportunities on both Friday and Saturday for public comments on any public land issue. Written comments will also be accepted, either at the meeting or at the address below.

FOR FURTHER INFORMATION CONTACT: Larry Mercer, Public Affairs Officer, Bureau of Land Management, 3801 Pegasus Drive, Bakersfield, CA 93308, telephone 661-391-6010.

Dated: July 14, 2000.
Ron Fellows,
Field Manager.

[FR Doc. 00-19185 Filed 7-28-00; 8:45 am]

BILLING CODE 4310-40-M